DEPARTMENT OF COMMERCE

National Oceanic and Atmospheric Administration

RIN 0648-XC309

Fisheries of the Exclusive Economic Zone Off Alaska; Application for an Exempted Fishing Permit

AGENCY: National Marine Fisheries Service (NMFS), National Oceanic and Atmospheric Administration (NOAA), Commerce.

ACTION: Notice; public comment on an application for exempted fishing permit.

SUMMARY: This notice announces receipt of an application and the public comment period for an exempted fishing permit (EFP) from Mr. John Gauvin of Gauvin and Associates, LLC. If granted, this permit would allow the applicant to develop and test a salmon excluder device for the Central Gulf of Alaska pollock trawl fishery. This activity is intended to promote the objectives of the Fishery Management Plan for Groundfish of the Gulf of Alaska (FMP) by reducing salmon bycatch in the Central Gulf of Alaska pollock trawl fishery.

DATES: Comments must be received by 5 p.m., Alaska local time (A.l.t.), December 14, 2012.

ADDRESSES: You may submit comments on this document, identified by NOAA-NMFS-2012-0208, by any of the following methods:

• Electronic Submissions: Submit all electronic public comments via the Federal eRulemaking Portal Web site at http://www.regulations.gov. To submit comments via the e-Rulemaking Portal, first click the “submit a comment” icon, then enter NOAA-NMFS-2012-0208 in the keyword search. Locate the document you wish to comment on from the resulting list and click on the “Submit a Comment” icon on the right of that line.

• Mail: Address written comments to Glenn Merrill, Assistant Regional Administrator, Sustainable Fisheries Division, Alaska Region NMFS, Attn: Ellen Sebastian. Mail comments to P.O. Box 21668, Juneau, AK 99802-1668.

• Fax: Address written comments to Glenn Merrill, Assistant Regional Administrator, Sustainable Fisheries Division, Alaska Region NMFS, Attn: Ellen Sebastian. Fax comments to 907-586-7557.

• Hand delivery to the Federal Building: Address written comments to Glenn Merrill, Assistant Regional Administrator, Sustainable Fisheries Division, Alaska Region NMFS, Attn: Ellen Sebastian. Deliver comments to 709 West 9th Street, Room 420A, Juneau, AK.

Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

Electronic copies of the EFP application and the environmental assessment (EA) may be obtained from http://www.regulations.gov or from the Alaska Region Web site at http://www.alaskafisheries.noaa.gov.

FOR FURTHER INFORMATION CONTACT: Jeff Hartman, 907-586-7228.

SUPPLEMENTARY INFORMATION: NMFS manages the domestic groundfish fisheries in the Gulf of Alaska (GOA) under the FMP. The North Pacific Fishery Management Council (Council) prepared the FMP under the Magnuson-Stevens Fishery Conservation and Management Act. Regulations governing the groundfish fisheries of the GOA appear at 50 CFR parts 600 and 679. The FMP and the implementing regulations at §§ 600.745(b) and 679.6 authorize issuance of EFPs to allow fishing that would otherwise be prohibited. Procedures for issuing EFPs are contained in the implementing regulations.

NMFS received an application for an EFP from Mr. Gauvin in September 2012. The purposes of the EFP research would be to improve the performance of the salmon excluder device developed under EFP 11-01, from 2011 to 2012, and to validate the performance of this device for pollock trawl gear used in the Central GOA. The goal is to develop a device for pollock trawl gear that reduces salmon bycatch without significantly lowering catch rates of pollock. Previous EFP applications, permits and final reports for salmon excluder experiments conducted in Alaska are available at: https://alaskafisheries.noaa.gov/ram/efp.htm.

The EFP would allow for development and testing of the salmon excluder device for two years from January 2013 through December 2014, during the pollock A through D seasons. Testing in each season would allow the device to be used under salmon occurrence and pollock fishing practices specific to each season. Testing in the A season would catch primarily Chinook salmon and roe-bearing pollock, while testing in the B through D seasons would catch Chinook salmon and pollock that are not likely to be roe-bearing. EFP fishing would be conducted by one to two vessels in each season.

To test the salmon excluder device, exemptions would be necessary from regulations for Central GOA Chinook salmon prohibited species catch (PSC) limits, retention requirements and trip limits for pollock, halibut PSC limits, selected observer requirements, closures for the pollock directed fishery, and specified total allowable catch amounts (TACs) for pollock. The taking of Chinook salmon during the experiment is crucial for determining the effectiveness of the salmon excluder device to allow Chinook salmon to escape from a pelagic trawl cod end. Chinook salmon taken during the experiment would not be counted toward the Chinook salmon PSC limits under § 679.21(h)(2)(i). The amount of Chinook salmon bycatch by the pollock trawl fishery during the EFP period could potentially approach the Central GOA Chinook salmon PSC limits of 18,316 Chinook salmon. If the EFP Chinook salmon were counted toward the Chinook salmon PSC limits, those limits would impede the ability of the participating trawl vessels from obtaining a sufficient sample size of Chinook salmon required for testing the salmon excluder device and may cause the closure of the Central GOA pollock fishery. Information regarding the Chinook salmon PSC limits for Central and Western GOA established under Amendment 93 was published in the Federal Register on July 20, 2012 (77FR 42629).

Up to 2,400 Chinook would be required for each year (2013 and 2014) in the A through D seasons, for a total of 4,800 Chinook salmon over the two-year EFP. The experimental design requires this quantity of salmon to ensure statistically valid results. The applicant also has requested an exemption from inseason pollock closures (§ 679.7(a)(2)), maximum retainable amounts for pollock (§ 679.20(d)(1)(iii)(B)), halibut PSC limits (§ 679.21(d)(3)), daily pollock trip landing and retention limits (§ 679.7(b)(2)(i) and (b)(2)(ii)), selected observer requirements (§ 679.50), and proposed observer requirements. Additional exemptions from 50 CFR part 679 are anticipated for amendments to observer regulations, following the publication of the final rule to restructure the North Pacific Groundfish Observer Program (Observer Program). The proposed rule was published in the Federal Register on April 18, 2012 (77 FR 23326). Implementation of the restructured Observer Program is scheduled for January 2013.

EFP fishing would be conducted by one or two pelagic trawl catcher vessels. These vessels would be exempted from selected observer requirements at § 679.50. The applicants would use “sea samplers” who are NMFS-trained observers. They would not be deployed as NMFS observers, however, at the time of the EFP fishing. The “sea samplers” would conduct the EFP data collection, collect tissue samples for genetic assessment of stock of origin, and perform other observer duties that normally would be required for vessels directed fishing for pollock.

Groundfish taken under the EFP would be exempt from the TACs specified in the annual harvest specifications (§ 679.20). A total of 2,400 metric tons (mt) of groundfish (primarily pollock) would be taken during each of the two years (2013 through 2014) for a total of 4,800 mt over the duration of the EFP. Approximately 2,304 mt of the groundfish harvested each year from the EFP is expected to be pollock. The experimental design requires this quantity of pollock to ensure a statistically adequate sample size for measuring pollock escapement through the salmon excluder device.

Because very little groundfish incidental catch occurs in the pollock fishery, the harvest of other groundfish species during the EFP fishing is expected to be no greater than approximately 4 percent of the groundfish taken during the fishery (96 mt per year). The majority of these other groundfish species harvested under the EFP likely would be only small amounts of arrowtooth flounder, Pacific cod, shallow-water flatfish, deep-water flatfish, and rex sole.

The applicant reports that EFP fishing under this permit is likely to incidentally harvest up to approximately 4.0 mt of halibut each year. If the permit is issued, NMFS would exempt the vessels participating in the EFP from halibut PSC limits at § 679.21, and as specified in the GOA 2013 and 2014 annual harvest specifications. A catch of 4.0 mt of halibut for this EFP would represent approximately 0.2% of the annual GOA trawl apportionment.

The experiment will not be conducted in Steller sea lion critical habitat, but will be in locations that historically produce high concentrations of Chinook salmon during pollock fishing, to ensure a statistically adequate sample size. In particular, some of the locations north, west, and east of Kodiak are ideal for conducting the experiment by ensuring that the vessel encounters sufficient concentrations of salmon and pollock for addressing experimental design criteria.

The activities under the EFP are not expected to have a significant impact on the human environment as analyzed in the EA for this action (see ADDRESSES). The EFP would be subject to modifications pending any new relevant information regarding the 2013 or 2014 fishery, including pollock harvest specifications.

In accordance with § 679.6, NMFS has determined that the proposal warrants further consideration and has forwarded the application to the Council to initiate consultation. The Director of the Alaska Fisheries Science Center reviewed the EFP, determined that the research proposal represents a valid scientific study, and has expressed support for continuing this trawl bycatch research in the GOA. The Council will consider the EFP application during its meeting held December 3 through 12, 2012, at the Hilton Hotel in Anchorage, AK. The applicant has been invited to appear in support of the application.

Public Comments

Public comments are being solicited on the application and the EA through the end of the comment period stated in this notice. To be considered, comments must be received by 5 p.m. A.l.t. on the last day of the comment period; that does not mean postmarked or otherwise transmitted by that date. Copies of the application and EA are available for review from NMFS (see ADDRESSES). Interested persons also may comment on the application and on the EA at the December 2012 Council meeting during public testimony.

Information regarding the meeting is available at the Council's Web site at http://www.alaskafisheries.noaa.gov/npfmc/.

Authority: 16 U.S.C. 1801 et seq.

Dated: November 16, 2012.
Emily H. Menashes,
Deputy Director, Office of Sustainable Fisheries, National Marine Fisheries Service.

[FR Doc. 2012-28323 Filed 11-20-12; 8:45 am]

BILLING CODE 3510-22-P